FEDERAL HOUSING FINANCE AGENCY

[Notice No. 2020-N-14]

Proposed Collection; Comment Request

AGENCY: Federal Housing Finance Agency.

ACTION: Notice; correction.

SUMMARY: The Federal Housing Finance Agency (FHFA) published a collection of information notice in the Federal Register on Friday, July 31, 2020 concerning a request for comments on the collection of data through FHFA's American Survey of Mortgage Borrowers. The title incorrectly identified the 30-day notice as concerning the National Survey of Mortgage Originations. This document corrects the notice by replacing the erroneous title.

FOR FURTHER INFORMATION CONTACT: Saty Patrabansh, Manager, National Mortgage Database Program, Saty.Patrabansh@fhfa.gov, (202) 649-3213; or Angela Supervielle, Counsel, Angela.Supervielle@fhfa.gov, (202) 649-3973, (these are not toll-free numbers), Federal Housing Finance Agency, 400 Seventh Street SW, Washington, DC 20219. The Telecommunications Device for the Deaf is (800) 877-8339.

SUPPLEMENTARY INFORMATION:

Correction

In the Federal Register of July 31, 2020, published at 85 FR 46104, on page 46104, in the third column, correct the Action caption to read: “American Survey of Mortgage Borrowers—30-day Notice of Submission of Information Collection for Approval for Emergency Clearance from the Office of Management and Budget.”

Robert Winkler,
Chief Information Officer, Federal Housing Finance Agency.

[FR Doc. 2020-17222 Filed 8-6-20; 8:45 am]

BILLING CODE 8070-01-P